DEPARTMENT OF HOMELAND SECURITY

Federal Emergency Management Agency

44 CFR Part 67

[Docket ID FEMA-2011-0002]

Final Flood Elevation Determinations

AGENCY: Federal Emergency Management Agency, DHS.

ACTION: Final rule.

SUMMARY: Base (1% annual-chance) Flood Elevations (BFEs) and modified BFEs are made final for the communities listed below. The BFEs and modified BFEs are the basis for the floodplain management measures that each community is required either to adopt or to show evidence of being already in effect in order to qualify or remain qualified for participation in the National Flood Insurance Program (NFIP).

DATES: The date of issuance of the Flood Insurance Rate Map (FIRM) showing BFEs and modified BFEs for each community. This date may be obtained by contacting the office where the maps are available for inspection as indicated in the table below.

ADDRESSES: The final BFEs for each community are available for inspection at the office of the Chief Executive Officer of each community. The respective addresses are listed in the table below.

FOR FURTHER INFORMATION CONTACT: Luis Rodriguez, Chief, Engineering Management Branch, Federal Insurance and Mitigation Administration, Federal Emergency Management Agency, 500 C Street, SW., Washington, DC 20472, (202) 646-4064, or (e-mail) luis.rodriguez1@dhs.gov.

SUPPLEMENTARY INFORMATION: The Federal Emergency Management Agency (FEMA) makes the final determinations listed below for the modified BFEs for each community listed. These modified elevations have been published in newspapers of local circulation and ninety (90) days have elapsed since that publication. The Deputy Federal Insurance and Mitigation Administrator has resolved any appeals resulting from this notification.

This final rule is issued in accordance with section 110 of the Flood Disaster Protection Act of 1973, 42 U.S.C. 4104, and 44 CFR part 67. FEMA has developed criteria for floodplain management in floodprone areas in accordance with 44 CFR part 60.

Interested lessees and owners of real property are encouraged to review the proof Flood Insurance Study and FIRM available at the address cited below for each community. The BFEs and modified BFEs are made final in the communities listed below. Elevations at selected locations in each community are shown.

National Environmental Policy Act. This final rule is categorically excluded from the requirements of 44 CFR part 10, Environmental Consideration. An environmental impact assessment has not been prepared.

Regulatory Flexibility Act. As flood elevation determinations are not within the scope of the Regulatory Flexibility Act, 5 U.S.C. 601-612, a regulatory flexibility analysis is not required.

Regulatory Classification. This final rule is not a significant regulatory action under the criteria of section 3(f) of Executive Order 12866 of September 30, 1993, Regulatory Planning and Review, 58 FR 51735.

Executive Order 13132, Federalism. This final rule involves no policies that have federalism implications under Executive Order 13132.

Executive Order 12988, Civil Justice Reform. This final rule meets the applicable standards of Executive Order 12988.

List of Subjects in 44 CFR Part 67

Administrative practice and procedure, Flood insurance, Reporting and recordkeeping requirements.

Accordingly, 44 CFR part 67 is amended as follows:

PART 67—[AMENDED]

1. The authority citation for part 67 continues to read as follows:

Authority: 42 U.S.C. 4001 et seq.; Reorganization Plan No. 3 of 1978, 3 CFR, 1978 Comp., p. 329; E.O. 12127, 44 FR 19367, 3 CFR, 1979 Comp., p. 376.

§ 67.11 [Amended]

2. The tables published under the authority of § 67.11 are amended as follows:

Flooding source(s) | Location of referenced elevation | * Elevation in feet (NGVD) + Elevation in feet (NAVD) # Depth in feet above ground ‸ Elevation in meters (MSL) Modified | Communities affected
Logan County, Arkansas, and Incorporated Areas
Docket No.: FEMA-B-1091
Arkansas River | Just upstream of State Highway 109 | +351 | Town of Morrison Bluff.
Booneville Creek | Approximately 0.75 mile upstream of the confluence with the Petit Jean River | +443 | City of Booneville.
Booneville Creek Tributary No. 1 | Just upstream of the Logan County southeast boundary | +446 | City of Booneville.
Cane Creek | Flooding effects near 5th Street and Tributary of Cane Creek | +352 | Town of Scranton.
| Flooding effects just southeast of 5th and Cherry Streets, near the Town of Scranton's southeast boundary | +355
Petit Jean River | Just upstream of the Logan County southeast boundary | +443 | City of Booneville.
Short Mountain Creek Tributary | Just upstream of the confluence with Short Mountain Creek | +375 | Unincorporated Areas of Logan County.
| Just upstream of Cherry Street | +425
| Approximately 1,800 feet upstream of Cherry Street | +432
* National Geodetic Vertical Datum.
+ North American Vertical Datum.
# Depth in feet above ground.
‸ Mean Sea Level, rounded to the nearest 0.1 meter.
ADDRESSES
City of Booneville
Maps are available for inspection at 497 East Main Street, Suite A, Booneville, AR 72927.
Town of Morrison Bluff
Maps are available for inspection at 22189 North State Highway 109, Scranton, AR 72863.
Town of Scranton
Maps are available for inspection at 203 Park Avenue, Scranton, AR 72863.
Unincorporated Areas of Logan County:
Maps are available for inspection at the OEM Training Center, 205 East Maple Street, Paris, AR 72855.
Mendocino County, California, and Incorporated Areas
Docket No.: FEMA-B-1089
Ackerman Creek | At the upstream side of North State Street | +626 | Pinoleville Indian Reservation, Unincorporated Areas of Mendocino County.
| Approximately 0.7 mile upstream of U.S. Route 101 southbound lanes | +643
* National Geodetic Vertical Datum.
+ North American Vertical Datum.
# Depth in feet above ground.
‸ Mean Sea Level, rounded to the nearest 0.1 meter.
ADDRESSES
Pinoleville Indian Reservation
Maps are available for inspection at 500 Pinoleville Drive, Suite B, Ukiah, CA 95482.
Unincorporated Areas of Mendocino County
Maps are available for inspection at 890 North Bush Street, Ukiah, CA 95482.
Adams County, Illinois, and Incorporated Areas
Docket No.: FEMA-B-1104
Cedar Creek | At the confluence with the Mississippi River | +487 | City of Quincy, Unincorporated Areas of Adams County.
| Approximately 1,000 feet downstream of U.S. Route 24 | +487
Curtis Creek | At the confluence with the Mississippi River | +486 | Unincorporated Areas of Adams County.
| Approximately 150 feet upstream of State Route 57 | +486
Mill Creek | At the confluence with the Mississippi River | +481 | Unincorporated Areas of Adams County.
| Approximately 1,850 feet upstream of State Route 57 | +481
Mississippi River | Approximately 2.9 miles upstream of U.S. Route 36 (River Mile 312.4) | +479 | City of Quincy, Unincorporated Areas of Adams County.
| Approximately 4.1 miles upstream of Lock and Dam No. 20 (River Mile 347.4) | +494
* National Geodetic Vertical Datum.
+ North American Vertical Datum.
# Depth in feet above ground.
‸ Mean Sea Level, rounded to the nearest 0.1 meter.
ADDRESSES
City of Quincy
Maps are available for inspection at City Hall, 730 Maine Street, Quincy, IL 62301.
Unincorporated Areas of Adams County
Maps are available for inspection at the Adams County Highway Department, 101 North 54th Street, Quincy, IL 62305.
Crawford County, Illinois, and Incorporated Areas
Docket No.: FEMA-B-1089
Mill Creek | At 1800th Avenue | +452 | Unincorporated Areas of Crawford County.
| Approximately 975 feet upstream of North Street | +452
Mill Creek Tributary | Approximately 800 feet upstream of the confluence with Mill Creek | +458 | Unincorporated Areas of Crawford County, Village of Hutsonville.
| Approximately 2,300 feet upstream of the confluence with Mill Creek | +479
Sugar Creek | At Franklin Road | +442 | Village of Palestine.
| Approximately 2,370 feet upstream of County Route 5 | +444
* National Geodetic Vertical Datum.
+ North American Vertical Datum.
# Depth in feet above ground.
‸ Mean Sea Level, rounded to the nearest 0.1 meter.
ADDRESSES
Unincorporated Areas of Crawford County
Maps are available for inspection at the Crawford County Courthouse, 100 Douglas Street, Robinson, IL 62454.
Village of Hutsonville
Maps are available for inspection at the Village Hall, 113 South Main Street, Hutsonville, IL 62433.
Village of Palestine
Maps are available for inspection at the Village Hall, 301 South Main Street, Palestine, IL 62451.
Henry County, Illinois, and Incorporated Areas
Docket No.: FEMA-B-1122
Geneseo Creek | Approximately 0.13 mile downstream of Elk Street | +615 | City of Geneseo, Unincorporated Areas of Henry County.
| Approximately 0.59 mile upstream of I-80 | +642
Rock River | Approximately 0.75 mile downstream of Hurd Road (in Whiteside County) | +584 | Unincorporated Areas of Henry County.
| Approximately 2.5 miles upstream of Hurd Road (in Whiteside County) | +585
Rock River | Approximately 1.04 miles upstream of I-80 | +577 | Village of Cleveland.
| Approximately 1.63 miles upstream of I-80 | +578
* National Geodetic Vertical Datum. | + North American Vertical Datum. | # Depth in feet above ground. | ‸ Mean Sea Level, rounded to the nearest 0.1 meter.
ADDRESSES
City of Geneseo
Maps are available for inspection at City Hall, 101 South State Street, Geneseo, IL 61254.
Unincorporated Areas of Henry County
Maps are available for inspection at the Henry County Courthouse, 307 West Center Street, Cambridge, IL 61238.
Village of Cleveland
Maps are available for inspection at the Village Hall, 408 Jackson Street, Cleveland, IL 61241.
Pike County, Illinois, and Incorporated Areas
Docket No.: FEMA-B-1115
Hardy Creek | Approximately 0.67 mile upstream of East Street | +452 | Unincorporated Areas of Pike County.
| Approximately 0.74 mile upstream of East Street | +452
Illinois River | Approximately 1,660 feet downstream of Bee Creek Road (River Mile 38.9) | +441 | Unincorporated Areas of Pike County.
| Approximately 0.59 mile downstream of County Route 176 North (River Mile 40.2) | +441
| Approximately 1.56 miles upstream of County Route 2400 North extended (River Mile 66.6) | +447
| Approximately 0.54 mile upstream of IL-104 (River Mile 71.9) | +448
Kiser Creek Diversion Ditch | Approximately 1,795 feet downstream of IL-96 | +478 | Town of New Canton.
| Approximately 1,848 feet upstream of IL-96 | +486
Mississippi River | Approximately 0.65 mile downstream of U.S. Route 54 (River Mile 282.5) | +463 | Unincorporated Areas of Pike County.
| Approximately 700 feet upstream of 1st Avenue extended (River Mile 312) | +479
* National Geodetic Vertical Datum.
+ North American Vertical Datum.
# Depth in feet above ground.
‸ Mean Sea Level, rounded to the nearest 0.1 meter.
ADDRESSES
Town of New Canton
Maps are available for inspection at the Sny Island Drainage District, 490 North Main Street, New Canton, IL 62356.
Unincorporated Areas of Pike County
Maps are available for inspection at the Pike County Courthouse, 100 East Washington Street, Pittsfield, IL 62363.
Clayton County, Iowa, and Incorporated Areas
Docket No.: FEMA-B-1075
Mississippi River | At the Dubuque County boundary | +616 | City of Clayton, City of Guttenberg, City of Marquette, City of McGregor, City of North Buena Vista, Unincorporated Areas of Clayton County.
| At the Allamakee County boundary, approximately 2.5 miles upstream of the Marquette-Joliet U.S. Route 18 Bridge | +629
* National Geodetic Vertical Datum.
+ North American Vertical Datum.
# Depth in feet above ground.
‸ Mean Sea Level, rounded to the nearest 0.1 meter.
ADDRESSES
City of Clayton
Maps are available for inspection at 302 Main Street, Clayton, IA 52049.
City of Guttenberg
Maps are available for inspection at 502 South 1st Street, Guttenberg, IA 52052.
City of Marquette
Maps are available for inspection at 88 North Street, Marquette, IA 52158.
City of McGregor
Maps are available for inspection at 416 Main Street, McGregor, IA 52157.
City of North Buena Vista
Maps are available for inspection at 502 Walnut Street, North Buena Vista, IA 52066.
Unincorporated Areas of Clayton County
Maps are available for inspection at 100 Sandpit Road, Elkader, IA 52043.
Carter County, Kentucky, and Incorporated Areas
Docket No.: FEMA-B-1112
Barrett Creek (backwater effects from Little Sandy River) | From the confluence with the Little Sandy River to approximately 0.5 mile upstream of Eagle Drive | +581 | Unincorporated Areas of Carter County.
Bens Run (backwater effects from Tygarts Creek) | From the confluence with Tygarts Creek to approximately 0.6 mile upstream of the confluence with Tygarts Creek | +752 | Unincorporated Areas of Carter County.
Big Sinking Creek (backwater effects from Little Sandy River) | From the confluence with the Little Sandy River to approximately 0.5 mile upstream of the confluence with the Little Sandy River | +610 | Unincorporated Areas of Carter County.
Davy Run (backwater effects from Little Fork Little Sandy River) | From the confluence with the Little Fork Little Sandy River to approximately 0.6 mile upstream of the confluence with the Little Fork Little Sandy River | +613 | Unincorporated Areas of Carter County.
Dry Branch (backwater effects from Tygarts Creek) | From the confluence with Tygarts Creek to just downstream of U.S. Route 60 | +804 | Unincorporated Areas of Carter County.
Fourmile Creek (backwater effects from Little Sandy River) | From the confluence with the Little Sandy River to approximately 400 feet upstream of Glory Lane | +604 | Unincorporated Areas of Carter County.
Huff Run (backwater effects from Little Fork Little Sandy River) | From the confluence with the Little Fork Little Sandy River to approximately 0.7 mile upstream of the confluence with the Little Fork Little Sandy River | +616 | Unincorporated Areas of Carter County.
Johns Run (backwater effects from Little Fork Little Sandy River) | From the confluence with the Little Fork Little Sandy River to approximately 0.6 mile upstream of the confluence with the Little Fork Little Sandy River | +623 | Unincorporated Areas of Carter County.
Lost Creek (backwater effects from Dry Fork) | From the confluence with Dry Fork to approximately 0.5 mile downstream of Eddie Dean Road | +632 | Unincorporated Areas of Carter County.
Straight Creek (backwater effects from Little Fork Little Sandy River) | From the confluence with the Little Fork Little Sandy River to approximately 1,750 feet downstream of Mount Savage Lane | +609 | Unincorporated Areas of Carter County.
Wolf Creek (backwater effects from Little Sandy River) | From the confluence with the Little Sandy River to approximately 0.6 mile upstream of the confluence with the Little Sandy River | +603 | Unincorporated Areas of Carter County.
* National Geodetic Vertical Datum. | + North American Vertical Datum. | # Depth in feet above ground. | ‸ Mean Sea Level, rounded to the nearest 0.1 meter.
ADDRESSES
Unincorporated Areas of Carter County
Maps are available for inspection at 300 West Main Street, Grayson, KY 41143.
Jessamine County, Kentucky, and Incorporated Areas
Docket No.: FEMA-B-1122
East Hickman Creek Tributary 1 (backwater effects from East Hickman Creek) | From the confluence with East Hickman Creek to approximately 580 feet upstream of the confluence with East Hickman Creek | +872 | Unincorporated Areas of Jessamine County.
Hickman Creek (backwater effects from Kentucky River) | From the confluence with the Kentucky River to approximately 1.9 miles upstream of the confluence with the Kentucky River | +566 | Unincorporated Areas of Jessamine County.
Jessamine Creek (backwater effects from Kentucky River) | From the confluence with the Kentucky River to approximately 0.9 mile upstream of the confluence with Jessamine Creek Tributary 9 | +559 | Unincorporated Areas of Jessamine County.
Jessamine Creek Tributary 9 (backwater effects from Kentucky River) | From the confluence with Jessamine Creek to approximately 785 feet upstream of the confluence with Jessamine Creek | +559 | Unincorporated Areas of Jessamine County.
Kentucky River | Approximately 1,770 feet downstream of the confluence with Kentucky River Tributary 4 | +548 | Unincorporated Areas of Jessamine County.
| Approximately 2 miles upstream of the confluence with Marble Creek | +582
Kentucky River Tributary 2 (backwater effects from Kentucky River) | From the confluence with the Kentucky River to approximately 1,445 feet upstream of River Road (KY-1541) | +573 | Unincorporated Areas of Jessamine County.
Kentucky River Tributary 4 (backwater effects from Kentucky River) | From the confluence with the Kentucky River to approximately 0.4 mile upstream of the confluence with the Kentucky River | +548 | Unincorporated Areas of Jessamine County.
Kentucky River Tributary 33 (backwater effects from Kentucky River) | From the confluence with the Kentucky River to approximately 1,900 feet upstream of the confluence with the Kentucky River | +569 | Unincorporated Areas of Jessamine County.
Kentucky River Tributary 83 (backwater effects from Kentucky River) | From the confluence with the Kentucky River to approximately 1,320 feet upstream of the confluence with the Kentucky River | +576 | Unincorporated Areas of Jessamine County.
Left Branch Tributary to Town Fork | At the confluence with Tributary to Town Fork | +922 | City of Nicholasville, Unincorporated Areas of Jessamine County.
| Approximately 385 feet upstream of the confluence with Tributary to Town Fork | +923
Little Hickman Creek (backwater effects from Kentucky River) | From the confluence with the Kentucky River to approximately 0.7 mile upstream of the confluence with the Kentucky River | +566 | Unincorporated Areas of Jessamine County.
Marble Creek (backwater effects from Kentucky River) | From the confluence with the Kentucky River to approximately 0.5 mile upstream of the confluence with the Kentucky River | +580 | Unincorporated Areas of Jessamine County.
Tributary to Town Fork | At the confluence with Town Fork | +914 | City of Nicholasville, Unincorporated Areas of Jessamine County.
| Approximately 1,080 feet upstream of Miles Road | +927
West Hickman Creek Tributary 1 (backwater effects from West Hickman Creek) | From the confluence with West Hickman Creek to approximately 90 feet upstream of West Hickman Plant Road | +884 | Unincorporated Areas of Jessamine County.
* National Geodetic Vertical Datum. | + North American Vertical Datum. | # Depth in feet above ground. | ‸ Mean Sea Level, rounded to the nearest 0.1 meter.
ADDRESSES
City of Nicholasville
Maps are available for inspection at City Hall, 517 North Main Street, Nicholasville, KY 40356.
Unincorporated Areas of Jessamine County
Maps are available for inspection at the Nicholasville City Hall, 517 North Main Street, Nicholasville, KY 40356
Marshall County, Kentucky, and Incorporated Areas
Docket No.: FEMA-B-1125
Barrett Branch (backwater effects from Tennessee River) | At the confluence with Little Cypress Creek | +341 | Unincorporated Areas of Marshall County.
| Approximately 1,600 feet upstream of the confluence with Howard Branch | +341
Bee Creek | Approximately 1,250 feet downstream of KY-408 | +390 | City of Benton, Unincorporated Areas of Marshall County.
| Approximately 1,250 feet upstream of KY-408 | +405
Clear Creek (backwater effects from Kentucky Lake) | From the confluence with Kentucky Lake to approximately 0.8 mile upstream of the confluence with Kentucky Lake | +375 | Unincorporated Areas of Marshall County.
Cypress Creek | Approximately 600 feet downstream of I-24 | +347 | City of Calvert City.
| Approximately 900 feet downstream of the confluence with Little John Creek | +348
Cypress Creek (backwater effects from Tennessee River) | At the confluence with the Tennessee River | +341 | Unincorporated Areas of Marshall County.
| Approximately 0.7 mile downstream of Industrial Parkway (KY-1523) | +341
East Fork Clarks River | At the confluence with Strow Branch | +361 | City of Benton.
| Approximately 0.5 mile upstream of U.S. Route 641 (Main Street) | +365
Howard Branch (backwater effects from Tennessee River) | From the confluence with Barrett Branch to approximately 0.6 mile upstream of the confluence with Barrett Branch | +341 | Unincorporated Areas of Marshall County.
Jonathan Creek (backwater effects from Kentucky Lake) | From the confluence with Kentucky Lake to approximately 1.6 miles upstream of the confluence with Kentucky Lake | +375 | Unincorporated Areas of Marshall County.
Little Cypress Creek (backwater effects from Tennessee River) | At the confluence with Cypress Creek | +341 | Unincorporated Areas of Marshall County.
| Approximately 0.4 mile upstream of U.S. Route 62 | +341
Little White Oak Creek (backwater effects from Tennessee River) | From the confluence with White Oak Creek to approximately 1 mile upstream of the confluence with White Oak Creek | +341 | Unincorporated Areas of Marshall County.
Olive Branch (backwater effects from Kentucky Lake) | From the confluence with Kentucky Lake to approximately 0.7 mile upstream of the confluence with Kentucky Lake | +375 | Unincorporated Areas of Marshall County.
Olive Branch Tributary 6 (backwater effects from Kentucky Lake) | From the confluence with Olive Branch to approximately 0.6 mile upstream of the confluence with Olive Branch | +375 | Unincorporated Areas of Marshall County.
Ruff Creek (backwater effects from Kentucky Lake) | From the confluence with Kentucky Lake to approximately 0.6 mile upstream of the confluence with Kentucky Lake | +375 | Unincorporated Areas of Marshall County.
Strow Branch | Approximately 500 feet downstream of West 1st Street | +362 | City of Benton, Unincorporated Areas of Marshall County.
| Approximately 300 feet downstream of KY-348 | +372
Strow Branch | Approximately 1,400 feet downstream of Allen Heights Drive | +407 | Unincorporated Areas of Marshall County.
| Approximately 500 feet upstream of Allen Heights Drive | +433
Strow Branch Tributary H | Approximately 1,000 feet downstream of Colonial Drive | +424 | Unincorporated Areas of Marshall County.
| Approximately 100 feet upstream of Colonial Drive | +447
Tennessee River | Approximately 0.7 mile downstream of the confluence with White Oak Creek | +340 | City of Calvert City, Unincorporated Areas of Marshall County.
| Just downstream of Kentucky Dam | +343
Town Creek | Approximately 150 feet downstream of the railroad | +370 | City of Benton.
| Approximately 950 feet upstream of the railroad | +373
Town Creek | Approximately 1,300 feet upstream of Main Street | +398 | City of Benton.
| At the confluence with Town Creek Tributary E | +410
Town Creek Tributary C | At the confluence with Town Creek | +370 | City of Benton, Unincorporated Areas of Marshall County.
| Just downstream of KY-408 | +378
Town Creek Tributary C | Just downstream of KY-1445 | +389 | City of Benton, Unincorporated Areas of Marshall County.
| Approximately 200 feet downstream of Haltom Road | +436
Town Creek Tributary D | At the confluence with Town Creek | +398 | City of Benton.
| Approximately 800 feet upstream of Country Club Lane | +423
Town Creek Tributary E | Just upstream of Golf Course Road | +416 | Unincorporated Areas of Marshall County.
| Approximately 950 feet downstream of the confluence with Town Creek Tributary F | +436
Town Creek Tributary F | Approximately 450 feet upstream of the confluence with Town Creek Tributary E | +449 | Unincorporated Areas of Marshall County.
| Approximately 1,100 feet upstream of the confluence with Town Creek Tributary E | +462
Tributary A East of Jackson Purchase Parkway | Approximately 300 feet downstream of the railroad | +371 | City of Benton, Unincorporated Areas of Marshall County.
| Approximately 450 feet downstream of Old Symsonia Road | +397
Tributary B East of Jackson Purchase Parkway | At the confluence with Tributary A East of Jackson Purchase Parkway | +389 | Unincorporated Areas of Marshall County.
| Approximately 350 feet downstream of Old Symsonia Road | +399
Tributary B West of Jackson Purchase Parkway | Approximately 350 feet downstream of the railroad | +364 | Unincorporated Areas of Marshall County.
| Just downstream of Symsonia Highway (KY-348) | +377
West Fork Ruff Creek (backwater effects from Kentucky Lake) | From the confluence with Kentucky Lake to approximately 0.6 mile upstream of the confluence with Kentucky Lake | +375 | Unincorporated Areas of Marshall County.
White Oak Creek (backwater effects from Tennessee River) | From the confluence with the Tennessee River to approximately 1.5 miles upstream of the confluence with the Tennessee River | +340 | Unincorporated Areas of Marshall County.
White Oak Creek Tributary 1 (backwater effects from Tennessee River) | From the confluence with White Oak Creek to approximately 1,500 feet upstream of the confluence with White Oak Creek | +340 | Unincorporated Areas of Marshall County.
* National Geodetic Vertical Datum. | + North American Vertical Datum. | # Depth in feet above ground. | ‸ Mean Sea Level, rounded to the nearest 0.1 meter.
ADDRESSES
City of Benton
Maps are available for inspection at 1009 Main Street, Benton, KY 42025.
City of Calvert City
Maps are available for inspection at 861 East 5th Avenue, Calvert City, KY 42029.
Unincorporated Areas of Marshall County
Maps are available for inspection at 1101 Main Street, Benton, KY 42025.
Ohio County, Kentucky, and Incorporated Areas
Docket No.: FEMA-B-1095
Adams Fork Tributary 22 (backwater effects from Rough River) | From the confluence with Adams Fork to approximately 785 feet upstream of Cross Hill Road | +417 | Unincorporated Areas of Ohio County.
Bartnett Creek (backwater effects from Green River) | From the confluence with the Rough River to approximately 0.7 mile upstream of the confluence with North Fork Bartnett Creek | +392 | Unincorporated Areas of Ohio County.
Bull Run (backwater effects from Green River) | From the confluence with Thoroughfare Stream to approximately 0.61 mile downstream of Cool Springs Road | +405 | Unincorporated Areas of Ohio County.
Caney Creek (backwater effects from Rough River) | From the confluence with the Rough River to approximately 1,700 feet downstream of KY-878 | +425 | Unincorporated Areas of Ohio County.
East Fork Williams Creek (backwater effects from Green River) | From the confluence with Williams Creek to approximately 0.94 mile upstream of the confluence with Williams Creek | +399 | Unincorporated Areas of Ohio County.
Green River | At Western Kentucky Parkway | +401 | Town of Rockport, Unincorporated Areas of Ohio County.
| Approximately 3.2 miles upstream of the confluence with Green River Tributary 5 | +412
Huff Creek (backwater effects from Rough River) | From the confluence with the Rough River to approximately 0.9 mile upstream of abandoned Illinois Central Railroad | +425 | Unincorporated Areas of Ohio County.
Huff Creek Tributary 5 (backwater effects from Rough River) | From the confluence with Huff Creek to approximately 1,380 feet upstream of the confluence with Huff Creek | +425 | Unincorporated Areas of Ohio County.
Lewis Creek (backwater effects from Green River) | From the confluence with the Green River to approximately 1,015 feet downstream of KY-1245 | +400 | Unincorporated Areas of Ohio County.
Mill Creek 1 (backwater effects from Rough River) | From the confluence with the Rough River to approximately 700 feet upstream of KY-69 | +399 | Unincorporated Areas of Ohio County.
Morrison Run (backwater effects from Rough River) | From the confluence with the Rough River to approximately 140 feet upstream of Utley Drive | +399 | Unincorporated Areas of Ohio County.
Muddy Creek (backwater effects from Green River) | From the confluence with the Rough River to approximately 460 feet upstream of North Main Street | +394 | Unincorporated Areas of Ohio County.
No Creek (backwater effects from Green River) | From the confluence with the Rough River to approximately 1,815 feet upstream of KY-136 | +392 | Unincorporated Areas of Ohio County.
North Fork Bartnett Creek (backwater effects from Green River) | From the confluence with Bartnett Creek to approximately 0.65 foot upstream of the confluence with Bartnett Creek | +392 | City of Hartford, Unincorporated Areas of Ohio County.
North Fork Muddy Creek (backwater effects from Green River) | From the confluence with Muddy Creek to approximately 1.7 miles upstream of the confluence with Muddy Creek | +394 | City of Hartford, Unincorporated Areas of Ohio County.
Pond Run 1 (backwater effects from Green River) | From the confluence with the Green River to just upstream of Ken Mine Road | +402 | Unincorporated Areas of Ohio County.
Pond Run (backwater effects from Rough River) | From the confluence with the Rough River to approximately 1.4 miles upstream of the confluence with the Rough River | +440 | Unincorporated Areas of Ohio County.
Render Creek (backwater effects from Green River) | From the confluence with Lewis Creek to approximately 0.8 mile upstream of the confluence with Lewis Creek | +400 | Unincorporated Areas of Ohio County.
Slaty Creek (backwater effects from Green River) | From the confluence with Thoroughfare Stream to approximately 2,520 feet downstream of Barnes Road | +411 | Unincorporated Areas of Ohio County.
Slovers Creek (backwater effects from Rough River) | From the confluence with the Rough River to approximately 666 feet downstream of KY-1414 | +408 | Unincorporated Areas of Ohio County.
Slovers Creek Tributary 4 (backwater effects from Rough River) | From the confluence with Slovers Creek to approximately 0.7 mile upstream of the confluence with Slovers Creek | +409 | Unincorporated Areas of Ohio County.
Southards Creek (backwater effects from Green River) | From the confluence with Lewis Creek to approximately 2,150 feet upstream of U.S. Route 62 | +400 | Unincorporated Areas of Ohio County.
Spur Creek (backwater effects from Green River) | From the confluence with the Green River to approximately 3.5 miles upstream of the confluence with the Green River | +403 | Unincorporated Areas of Ohio County.
Thoroughfare Stream Tributary 2 (backwater effects from Green River) | From the confluence with Thoroughfare Stream to approximately 402 feet downstream of Schultztown Road | +405 | Unincorporated Areas of Ohio County.
Walton Creek (backwater effects from Green River) | From the confluence with the Rough River to approximately 1.7 miles upstream of the confluence with the Rough River | +392 | Unincorporated Areas of Ohio County.
West Fork Lewis Creek (backwater effects from Green River) | From the confluence with Lewis Creek to approximately 900 feet downstream of Rockport Ceralvo Road | +400 | Unincorporated Areas of Ohio County.
West Fork Lewis Creek Tributary 5 (backwater effects from Green River) | From the confluence with West Fork Lewis Creek to approximately 1,660 feet upstream of KY-85 | +3400 | Unincorporated Areas of Ohio County.
Williams Creek (backwater effects from Green River) | From the confluence with the Green River to approximately 1,170 feet upstream of KY-69 | +399 | Unincorporated Areas of Ohio County.
Wolfpen Run (backwater effects from Rough River) | From the confluence with the Rough River to approximately 1.3 miles upstream of the confluence with the Rough River | +413 | Unincorporated Areas of Ohio County.
* National Geodetic Vertical Datum.
+ North American Vertical Datum.
# Depth in feet above ground.
‸ Mean Sea Level, rounded to the nearest 0.1 meter.
ADDRESSES
City of Hartford
Maps are available for inspection at City Hall, 116 East Washington Street, Hartford, KY 42347.
Town of Rockport
Maps are available for inspection at the Town Hall, 9133 West U.S. Route 62, Rockport, KY 42369.
Unincorporated Areas of Ohio County
Maps are available for inspection at the Ohio County Courthouse, 301 South Main Street, Hartford, KY 42347.
Owen County, Kentucky, and Incorporated Areas
Docket No.: FEMA-B-1115
Balls Branch (backwater effects from Kentucky River) | From the confluence with the Kentucky River to approximately 0.4 mile upstream of Point of Rock Road | +495 | Unincorporated Areas of Owen County.
Big Twin Creek (backwater effects from Kentucky River) | From the confluence with the Kentucky River to approximately 2.3 miles upstream of KY-355 | +478 | Unincorporated Areas of Owen County.
Cedar Creek (backwater effects from Kentucky River) | From the confluence with the Kentucky River to approximately 1,230 feet upstream of U.S. Route 127 | +493 | City of Monterey, Unincorporated Areas of Owen County.
Clay Lick Creek (backwater effects from Kentucky River) | From the confluence with the Kentucky River to approximately 780 feet upstream of the confluence with Clay Lick Creek Tributary 3 | +485 | City of Gratz, Unincorporated Areas of Owen County.
Clay Lick Creek Tributary 3 (backwater effects from Kentucky River) | From the confluence with Clay Lick Creek to approximately 1,585 feet upstream of the confluence with Clay Lick Creek | +485 | Unincorporated Areas of Owen County.
Eagle Creek (backwater effects from Kentucky River) | From the confluence with the Kentucky River to approximately 1.2 miles upstream of KY-227 | +473 | Unincorporated Areas of Owen County.
Kentucky River | At the confluence with Eagle Creek | +473 | City of Gratz, City of Monterey, Unincorporated Areas of Owen County.
| Approximately 3.3 miles upstream of the confluence with Balls Branch | +497
Little Twin Creek (backwater effects from Kentucky River) | From the confluence with the Kentucky River to approximately 485 feet upstream of KY-325 | +478 | Unincorporated Areas of Owen County.
Lowderbach Branch (backwater effects from Kentucky River) | From the confluence with the Kentucky River to approximately 0.5 mile upstream of KY-355 | +485 | City of Gratz, Unincorporated Areas of Owen County.
Mill Creek (backwater effects from Kentucky River) | From the confluence with the Kentucky River to approximately 100 feet downstream of KY-355 | +478 | Unincorporated Areas of Owen County.
Mint Spring Branch (backwater effects from Kentucky River) | From the confluence with Severn Creek to approximately 0.45 mile upstream of the confluence with Severn Creek | +489 | Unincorporated Areas of Owen County.
Severn Creek (backwater effects from Kentucky River) | From the confluence with the Kentucky River to approximately 1.6 miles upstream of the confluence with Mint Spring Branch | +489 | Unincorporated Areas of Owen County.
* National Geodetic Vertical Datum.
+ North American Vertical Datum.
# Depth in feet above ground.
‸ Mean Sea Level, rounded to the nearest 0.1 meter.
ADDRESSES
City of Gratz
Maps are available for inspection at City Hall, 94 Main Street, Gratz, KY 40327.
City of Monterey
Maps are available for inspection at City Hall, 610 Monterey Pike, Monterey, KY 40359.
Unincorporated Areas of Owen County
Maps are available for inspection at the Owen County Courthouse, 100 North Thomas Street, Owenton, KY 40359.
Lawrence County, Mississippi, and Incorporated Areas
Docket No.: FEMA-B-1093
Runnels Creek | Approximately 0.5 mile downstream of Robinwood Road | +193 | Town of Monticello, Unincorporated Areas of Lawrence County.
| Approximately 100 feet downstream of Robinwood Road | +193
* National Geodetic Vertical Datum.
+ North American Vertical Datum.
# Depth in feet above ground.
‸ Mean Sea Level, rounded to the nearest 0.1 meter.
ADDRESSES
Town of Monticello
Maps are available for inspection at 202 Jefferson Street South, Monticello, MS 39654.
Unincorporated Areas of Lawrence County
Maps are available for inspection at 435 Brinson Street, Monticello, MS 39564.
Noxubee County, Mississippi, and Incorporated Areas
Docket No.: FEMA-B-1089
Tombigbee River | At the Lowndes County boundary | +155 | Unincorporated Areas of Noxubee County.
| Approximately 3.1 miles upstream of the Lowndes County boundary | +156
* National Geodetic Vertical Datum.
+ North American Vertical Datum.
# Depth in feet above ground.
‸ Mean Sea Level, rounded to the nearest 0.1 meter.
ADDRESSES
Unincorporated Areas of Noxubee County
Maps are available for inspection at the Noxubee County Courthouse, 505 South Jefferson Street, Macon, MS 39341.
Hancock County, Ohio, and Incorporated Areas
Docket No.: FEMA-B-1095
Blanchard River | Approximately 1,300 feet upstream of County Highway 140 | +772 | Unincorporated Areas of Hancock County.
| Approximately 2,000 feet downstream of Township Road 241 | +786
Eagle Creek | Approximately 0.53 mile downstream of Township Road 204 | +783 | Unincorporated Areas of Hancock County.
| Approximately 1,100 feet downstream of Township Road 49 | +797
Lye Creek | Approximately 0.61 mile downstream of County Highway 180 | +779 | Unincorporated Areas of Hancock County.
| Just downstream of County Highway 180 | +781
* National Geodetic Vertical Datum.
+ North American Vertical Datum.
# Depth in feet above ground.
‸ Mean Sea Level, rounded to the nearest 0.1 meter.
ADDRESSES
Unincorporated Areas of Hancock County
Maps are available for inspection at 300 South Main Street, Findlay, OH 45840.
Benton County, Oregon, and Incorporated Areas
Docket No.: FEMA-B-1101
Willamette River | Approximately 400 feet upstream of Reiling Lane near the Long Tom River | +282 | City of Monroe.
| Approximately 0.43 mile upstream of Reiling Lane near the Long Tom River | +282
* National Geodetic Vertical Datum.
+ North American Vertical Datum.
# Depth in feet above ground.
‸ Mean Sea Level, rounded to the nearest 0.1 meter.
ADDRESSES
City of Monroe
Maps are available for inspection at 664 Commercial Street, Monroe, OR 97456.
Hill County, Texas, and Incorporated Areas
Docket No.: FEMA-B-1068
Hackberry Creek | Approximately 1,000 feet downstream of the confluence with Tributary of Hackberry Creek | +557 | Unincorporated Areas of Hill County.
| Just upstream of the confluence with Little Hackberry Creek | +563
Little Hackberry Creek | At the confluence with Hackberry Creek | +563 | Unincorporated Areas of Hill County.
| Approximately 1,500 feet upstream of the confluence with Pecan Creek | +568
Pecan Creek | At the confluence with Little Hackberry Creek | +568 | Unincorporated Areas of Hill County.
| Just upstream of State Highway 171 | +579
Stream WC-1A | Approximately 850 feet upstream of State Highway Spur 180 | +587 | Unincorporated Areas of Hill County.
| Approximately 750 feet downstream of County Road 1244 | +597
* National Geodetic Vertical Datum.
+ North American Vertical Datum.
# Depth in feet above ground.
‸ Mean Sea Level, rounded to the nearest 0.1 meter.
ADDRESSES
Unincorporated Areas of Hill County
Maps are available for inspection at the Hill County Courthouse, 201 East Franklin Street, Hillsboro, TX 76645.

(Catalog of Federal Domestic Assistance No. 97.022, “Flood Insurance.”)

Dated: February 8, 2011.
Edward L. Connor,
Acting Federal Insurance and Mitigation Administrator, Department of Homeland Security, Federal Emergency Management Agency.

[FR Doc. 2011-3903 Filed 2-18-11; 8:45 am]

BILLING CODE 9110-12-P